DEPARTMENT OF HOMELAND SECURITY

Coast Guard

[Docket No. USCG-2025-0148]

National Commercial Fishing Vessel Safety Advisory Committee; Vacancies

AGENCY: U.S. Coast Guard, Department of Homeland Security.

ACTION: Notice; request for applications.

SUMMARY: The Coast Guard is requesting applications to fill eighteen (18) vacancies on the National Commercial Fishing Safety Advisory Committee (Committee). The Committee advises the Secretary of the Department of Homeland Security on matters relating to national commercial fishing safety. Please read the SUPPLEMENTARY INFORMATION section of this notice for a description of the 18 Committee positions we are seeking to fill.

DATES: Complete applications should reach the U.S. Coast Guard on or before August 18, 2025.

ADDRESSES: Applications must include: (a) a cover letter that expresses the applicant's interest in an appointment to the Committee and details the applicant's qualifications to serve as a Special Government Employee representing the general public, and/or as a representative in one or more of the 18 other membership positions, (b) a resume detailing the applicant's relevant experience for the position applied for, and (c) a brief 2-3 paragraph biography written in third person. Applications should be submitted via email with subject line “NCFSAC Vacancy Application” to CGCVC3@uscg.mil.

FOR FURTHER INFORMATION CONTACT: Mr. Jonathan Wendland, Alternate Designated Federal Officer of the National Commercial Fishing Safety Advisory Committee; telephone 202-372-1245; or email at CGCVC3@uscg.mil

SUPPLEMENTARY INFORMATION: The National Commercial Fishing Safety Advisory Committee is a Federal advisory committee. The Committee was established on December 4, 2018, by section 601 of the Frank LoBiondo Coast Guard Authorization Act of 2018 (Pub. L. 115-282, 132 Stat. 4192), and amended by § 8335 of the NDAA of 2021 (Pub. L. 116-283, 134 Stat 4706) and codified in 46 U.S.C. 15102. The Committee operates under the provisions of the Federal Advisory Committee Act and 46 U.S.C. 15109.

The Committee provides advice and recommendations in writing to the Secretary of Homeland Security on matters relating to the (1) safe operation of vessels to which chapter 45 of Title 46 United States Code applies, including the matters of—(A) navigation safety; (B) safety equipment and procedures; (C) marine insurance; (D) vessel design, construction, maintenance, and operation; and (E) personnel qualifications and training; (2) review regulations proposed under chapter 45 of Title 46 United States Code (during preparation of the regulations); and (3) review marine casualties and investigations of vessels covered by chapter 45 of Title 46 United States Code and make recommendations to the Secretary to improve safety and reduce vessel casualties.

The Committee is required to meet at least twice a year in accordance with 46 U.S.C. 15109(a)(2)(A). We expect the Committee to meet at least twice a year, but it may meet more frequently. The meetings are selected by the U.S. Coast Guard and are generally held across the country as close as possible to commercial fishing communities.

Under provisions in 46 U.S.C. 15109(f)(6), if you are appointed as a member of the Committee, your membership term will expire on December 31st of the third full year after the effective date of your appointment. The Secretary of Homeland Security may require an individual to have passed an appropriate security background examination before appointment to the Committee, per 46 U.S.C. 15109(f)(4).

All members will serve at their own expense and receive no salary or other compensation from the Federal Government, with the exception that members may be reimbursed for travel and per diem in accordance with Federal Travel Regulations.

In this solicitation for Committee members, we will consider applications for all 18 positions:

(A) Ten members shall represent the commercial fishing industry and—

(i) as a group, shall together reflect a regional and representational balance; and (ii) as individuals shall each have experience—

(I) in the operation of vessels in which chapter 45 of Title 46 United States Code applies; or

(II) as a crew member or processing line worker on a fish processing vessel.

(B) One member shall represent naval architects and marine engineers.

(C) One member shall represent manufacturers of equipment for vessels to which Chapter 45 of Title 46 United States Code applies.

(D) One member shall represent education and training professionals related to fishing vessel, fish processing vessel, and fish tender vessel safety and personnel qualifications.

(E) One member shall represent underwriters that insure vessels to which chapter 45 of title 46 United States Code applies.

(F) One member shall represent owners of vessels to which chapter 45 of Title 46 United States Code applies.

(G) Three members shall represent the general public and, to the extent possible, shall include—

(i) an independent expert or consultant in maritime safety;

(ii) a marine surveyor who provides services to vessels to which chapter 45 of Title 46 United States Code applies; and

(iii) a person familiar with issues affecting fishing communities and the families of fishermen.

The members who will fill positions (A) through (F) as described above will be appointed to represent the interest of their respective groups and viewpoints and are not Special Government Employees as defined in 18 U.S.C. 202(a). As representatives, the members are expected to represent and speak on behalf of interests, views, or perspectives of a recognizable group of persons or class of stakeholders.

If you are selected to fill position (G) as described above, as a member drawn from the general public, you will be appointed and serve as a Special Government Employee as defined in 18 U.S.C. 202(a). Applicants for appointment as a Special Government Employee are required to complete a Confidential Financial Disclosure Report (OGE Form 450) for new entrants online and receive ethics training. The U.S. Coast Guard may not release the reports or the information in them to the public except under an order issued by a Federal Court or as otherwise provided under the Privacy Act (5 U.S.C. 552a). Only the Designated U.S. Coast Guard Ethics Official or his or her designee may release a Confidential Financial Disclosure Report. Applicants must contact the individual listed above in the FOR FURTHER INFORMATION CONTACT section for more information.

Registered lobbyists are not eligible to serve on Federal Advisory Committees in an individual capacity. See “Revised Guidance on Appointment of Lobbyists to Federal Advisory Committees, Boards and Commissions” (79 FR 47482, August 13, 2014). Registered lobbyists are “lobbyists,” as defined in 2 U.S.C. 1602, who are required by 2 U.S.C. 1603 to register with the Secretary of the Senate and the Clerk of the House of Representatives.

If you are appointed as a member of the Committee, you will be required to sign a Non-Disclosure Agreement and a Gratuitous Services Agreement.

If you are interested in applying to become a member of the Committee, email your application to CGCVC3@uscg.mil as provided in the ADDRESSES section of this notice.

Once we receive your application, we will send you an email confirming receipt.

The U.S. Coast Guard will not consider incomplete or late applications.

Privacy Act Statement

Purpose: To obtain qualified applicants to fill 18 vacancies on the National Commercial Fishing Safety Advisory Committee. When you apply for appointment to the DHS National Commercial Fishing Safety Advisory Committee, DHS collects your name, contact information, and any other personal information that you submit in conjunction with your application. DHS will use this information to evaluate your candidacy for Committee membership. If you are chosen to serve as a Committee member, your name will appear in publicly available Committee documents, membership lists, and Committee reports.

Authorities: 5 U.S.C. Ch. 10; 46 U.S.C. 15102 and 15109; and 18 U.S.C. 202(a), and Department of Homeland Security Delegation No. 00915.

Routine Uses: Authorized U.S. Coast Guard personnel will use this information to consider and obtain qualified candidates to serve on the Committee. Any external disclosures of information within this record will be made in accordance with DHS/ALL-009, Department of Homeland Security Advisory Committee (73 FR 57639, October 3, 2008).

Consequences of Failure to Provide Information: Furnishing this information is voluntary. However, failure to furnish the requested information may result in your application not being considered for the Committee.

Dated: June 4, 2025.
Robert C. Compher,
Captain, U.S. Coast Guard, Director of Inspections and Compliance.

[FR Doc. 2025-10942 Filed 6-16-25; 8:45 am]

BILLING CODE 9110-04-P